DEPARTMENT OF DEFENSE

Office of the Secretary

Charter Renewal of Department of Defense Federal Advisory Committees

AGENCY: Department of Defense.

ACTION: Renewal of Federal Advisory Committee.

SUMMARY: The Department of Defense (DoD) is publishing this notice to announce that it is renewing the charter for the Defense Innovation Board (“the Board”).

FOR FURTHER INFORMATION CONTACT: Jim Freeman, Advisory Committee Management Officer for the Department of Defense, 703-692-5952.

SUPPLEMENTARY INFORMATION: The Board's charter is being renewed in accordance with the Federal Advisory Committee Act (FACA) (5 U.S.C., Appendix) and 41 CFR 102-3.50(d). The charter and contact information for the Board's Designated Federal Officer (DFO) are found at https://www.facadatabase.gov/FACA/apex/FACAPublicAgencyNavigation.

The Board, through the Under Secretary for Defense for Research and Engineering (USD(R&E)), shall provide the Secretary of Defense and the Deputy Secretary of Defense independent advice and recommendations using a focus on innovative means to address future challenges in terms of integrated change to organizational structure and process, business and functional concepts, technology applications, and any other topics raised by the Secretary of Defense, the Deputy Secretary of Defense, the Chief Management Officer of the Department of Defense or the USD(R&E). The Board shall be composed of no more than 20 members appointed in accordance with DoD policy and procedures. The members must possess some or all of the following: (a) Proven track record of sound judgment in leading or governing large, complex private sector corporations or organizations; (b) demonstrated performance in identifying and adopting new technology innovations into the operations of large organizations in either the public or private sector; (c) demonstrated performance in developing new technology concepts; and (d) proven track record as distinguished academic, professor or researcher at an accredited academic institution.

Board members who are not full-time or permanent part-time Federal civilian officers, employees, or active duty members of the Armed Forces will be appointed as experts or consultants, pursuant to 5 U.S.C. 3109, to serve as special government employee members. Board members who are full-time or permanent part-time Federal civilian officers, employees, or active duty members of the Armed Forces will be appointed pursuant to 41 CFR 102-3.130(a), to serve as regular government employee members.

All members of the Board are appointed to provide advice on the basis of their best judgment without representing any particular point of view and in a manner that is free from conflict of interest. Except for reimbursement of official Board-related travel and per diem, members serve without compensation.

The public or interested organizations may submit written statements to the Board membership about the Board's mission and functions. Written statements may be submitted at any time or in response to the stated agenda of planned meeting of the Board. All written statements shall be submitted to the DFO for the Board, and this individual will ensure that the written statements are provided to the membership for their consideration.

Dated: April 3, 2020.
Aaron T. Siegel,
Alternate OSD Federal Register Liaison Officer, Department of Defense.

[FR Doc. 2020-07428 Filed 4-8-20; 8:45 am]

BILLING CODE 5001-06-P